DEPARTMENT OF HEALTH AND HUMAN SERVICES

National Institutes of Health

National Institute of Neurological Disorders and Stroke; Amended Notice of Meeting

Notice is hereby given of a change in the meeting of the National Institute of Neurological Disorders and Stroke Special Emphasis Panel, July 10, 2020, 10:00 a.m. to July 10, 2020, 03:30 p.m., National Institutes of Health Rockville, MD 20852 which was published in the Federal Register on July 01, 2020, 85FR574.

This meeting notice is to change the ZNS1 SRB-G 30 July 10, 2020 SEP meeting date to July 27, 2020. The meeting is closed to the public.

Dated: July 13, 2020.
Tyeshia M. Roberson,
Program Analyst, Office of Federal Advisory Committee Policy.

[FR Doc. 2020-15426 Filed 7-16-20; 8:45 am]

BILLING CODE 4140-01-P